DEPARTMENT OF JUSTICE

Drug Enforcement Administration

[Docket No. DEA-392]

Bulk Manufacturer of Controlled Substances Application: Pisgah Laboratories, Inc.

ACTION: Notice of application.

DATES: Registered bulk manufacturers of the affected basic classes, and applicants therefore, may file written comments on or objections to the issuance of the proposed registration on or before September 3, 2019.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on March 5, 2019, Pisgah Laboratories, Inc., 3222 Old Hendersonville Highway, Pisgah Forest, North Carolina 28768 applied to be registered as a bulk manufacturer of the following basic classes of controlled substances:

Controlled substance | Drug code | Schedule
Difenoxin | 9168 | I
Diphenoxylate | 9170 | II
Levorphanol | 9220 | II
Meperidine intermediate-B | 9233 | II

The company plans to manufacture the listed controlled substances in bulk for distribution to its customers.

Dated: June 19, 2019.
John J. Martin,
Assistant Administrator.

[FR Doc. 2019-14028 Filed 7-1-19; 8:45 am]

BILLING CODE 4410-09-P